DEPARTMENT OF HOMELAND SECURITY

Coast Guard

[Docket No. USCG-2020-0047]

Towing Safety Advisory Committee; March 2020 Teleconference

AGENCY: U.S. Coast Guard, Department of Homeland Security.

ACTION: Notice of Federal Advisory Committee teleconference meeting.

SUMMARY: The Towing Safety Advisory Committee will meet via teleconference, to discuss the two current tasks of the Committee. The Committee is expected to receive the final reports from the Subcommittee on Load Line Exemption for River Barges on Lakes Erie and Ontario.

DATES:

Meeting: The full Committee will meet by teleconference on Tuesday, March 10, 2020, from 1 p.m. until 3 p.m. Eastern Standard Time. Please note that this meeting may close early if the Committee has completed its business.

Comments and supporting documents: To ensure your comments are reviewed by Committee members before the teleconference, submit your written comments no later than March 3, 2020.

ADDRESSES: To join the teleconference or to request special accommodations, contact the individual listed in the FOR FURTHER INFORMATION CONTACT section no later than 1 p.m. on March 3, 2020, to obtain the needed information. The number of teleconference lines is limited and will be available on a first-come, first-served basis.

Instructions: You are free to submit comments at any time, including orally at the teleconference, but if you want Committee members to review your comments before the teleconference, please submit your comments no later than March 3, 2020. We are particularly interested in comments on the issue in the “Agenda” section below. You must include the words “Department of Homeland Security” and the docket number [USCG-2020-0047]. Comments received will be posted without alteration at http://www.regulations.gov, including any personal information provided. For more information about privacy and the docket, review the Privacy and Security Notice for the Federal Docket Management at http://www.regulations.gov/privacyNotice. Written comments may also be submitted using the Federal eRulemaking Portal at http://www.regulations.gov. If you encounter technical difficulties with comment submission, contact the individual listed in the FOR FURTHER INFORMATION CONTACT section of this notice.

Docket Search: For access to the docket or to read documents or comments related to this notice, go to http://www.regulations.gov, type USCG-2020-0047 in the Search box, press Enter, and then click on the item you wish to view.

FOR FURTHER INFORMATION CONTACT: Mr. Matthew D. Layman, Alternate Designated Federal Officer of the Towing Safety Advisory Committee, 2703 Martin Luther King Jr. Ave. SE, Stop 7509, Washington, DC 20593-7509, telephone 202-372-1421, fax 202-372-8382 or Matthew.D.Layman@uscg.mil.

SUPPLEMENTARY INFORMATION: The Towing Safety Advisory Committee provides advice and recommendations to the Department of Homeland Security on matters related to shallow-draft inland and coastal waterway navigation and towing safety. It was established by Public Law 96-380 in 1980 and was an active committee on December 3, 2018, the day before the Frank LoBiondo Coast Guard Authorization Act of 2018 (Pub. L. 115-282) was enacted.

Agenda

The agenda for the March 10, 2020, teleconference meeting is as follows:

(1) Final report from the Subcommittee on “Recommendations on Load Line Exemption for River Barges on Lakes Erie and Ontario (Task 17-02)”

(2) Additional tasking for the Subcommittee working on “Recommendations on the Implementation of 46 Code of Federal Regulations Subchapter M—Inspection of Towing Vessels (Task 16-01)”

(3) Update on the National Towing Safety Advisory Committee and the December 4, 2020 termination date for the Towing Safety Advisory Committee.

(4) Public Comment period.

A copy of all meeting documentation will be available at https://www.dco.uscg.mil/Our-Organization/Assistant-Commandant-for-Prevention-Policy-CG-5P/Commercial-Regulations-standards-CG-5PS/Office-of-Operating-and-Environmental-Standards/vfos/TSAC/.

During the March 10, 2020 teleconference, a public comment period will be held from approximately 2:45 p.m. to 3 p.m. Speakers are requested to limit their comments to 3 minutes. Please note that this public comment period may start before 2:45 p.m. if all other agenda items have been covered and may end before 3 p.m. if all of those wishing to comment have done so. Please contact Mr. Matthew D. Layman, listed in the FOR FURTHER INFORMATION CONTACT section to register as a speaker.

Notice of Future 2020 Towing Safety Advisory Committee Meetings

To receive automatic email notices of future Towing Safety Advisory Committee meetings in 2020, go to the online docket, USCG-2020-0047 (http://www.regulations.gov/#!docketDetail;D=USCG-2020-0047), and select the sign-up-for-email-alerts option. We plan to use the same docket number for all Towing Safety Advisory Committee meeting notices in 2020, so when the next meeting notice is published you will receive an email alert from http://www.regulations.gov when the notice appears in this docket, in addition to notices of other items being added to the docket.

Dated: February 6, 2020.
Jeffrey G. Lantz,
Director of Commercial Regulations and Standards.

[FR Doc. 2020-03030 Filed 2-13-20; 8:45 am]

BILLING CODE 9110-04-P